DEPARTMENT OF COMMERCE

International Trade Administration

[A-122-822]

Corrosion-Resistant Carbon Steel Flat Products from Canada: Notice of Extension of Time Limit for Preliminary Results of Antidumping Duty Administrative Review

AGENCY: Import Administration, International Trade Administration, U.S. Department of Commerce.

EFFECTIVE DATE: April 4, 2006.

FOR FURTHER INFORMATION CONTACT: Douglas Kirby or Joshua Reitze, AD/CVD Operations, Office 6, Import Administration, International Trade Administration, U.S. Department of Commerce, 14th Street and Constitution Avenue, NW., Washington, DC 20230; telephone: (202) 482-3782 or (202) 482-0666, respectively.

SUPPLEMENTARY INFORMATION:

Background

On August 31, 2005, the Department of Commerce (the Department) received timely requests for an administrative review of the antidumping duty order on corrosion-resistant carbon steel flat products from Canada, with respect to Stelco Inc. (Stelco) and Dofasco Inc., Sorevco Inc., and Do Sol Galva Ltd. (collectively Dofasco). On September 28, 2005, the Department published a notice of initiation of this administrative review for the period of August 1, 2004 through July 31, 2005. See Initiation of Antidumping and Countervailing Duty Administrative Reviews and Requests for Revocation in Part, 70 FR 56631 (September 28, 2005).

Extension of Time Limits for Preliminary Results

Pursuant to section 751(a)(3)(A) of the Tariff Act of 1930, as amended (the Act), the Department shall issue preliminary results in an administrative review of an antidumping duty order within 245 days after the last day of the anniversary month of the date of publication of the order. The Act further provides, however, that the Department may extend that 245-day period to 365 days if it determines it is not practicable to complete the review within the foregoing time period.

In light of the complexity in analyzing issues pertaining to level of trade, it is not practicable for the Department to complete this review by the current deadline of May 3, 2006. Therefore, in accordance with section 751(a)(3)(A) of the Act, the Department is extending the time limit for the preliminary results until no later than August 31, 2006, which is 365 days after the last day of the anniversary month of the date of publication of the order. The final results continue to be due 120 days after the publication of the preliminary results, in accordance with section 351.213 (h) of the Department's regulations.

This notice is issued and published in accordance to sections 751(a)(1) and 777(i)(1) of the Act.

Dated: March 29, 2006.
Stephen J. Claeys,
Deputy Assistant Secretary for Import Administration.

[FR Doc. E6-4863 Filed 4-3-06; 8:45 am]

BILLING CODE 3510-DS-S